DEPARTMENT OF COMMERCE

National Oceanic and Atmospheric Administration

[I.D. 052406A]

Fisheries of the Exclusive Economic Zone Off Alaska; Application for an Exempted Fishing Permit

AGENCY: National Marine Fisheries Service (NMFS), National Oceanic and Atmospheric Administration (NOAA), Commerce.

ACTION: Notice; receipt of an application for an exempted fishing permit.

SUMMARY: This notice announces receipt of an application for an exempted fishing permit (EFP) from the Marine Conservation Alliance Foundation. If granted, the EFP would allow the applicant to test trawl gear modifications that may reduce Pacific halibut bycatch rates for trawlers targeting Pacific cod in the Central Gulf of Alaska (GOA). This project is intended to promote the objectives of the Fishery Management Plan for Groundfish of the Gulf of Alaska and National Standard 9 of the Magnuson-Stevens Fishery Conservation and Management Act (Magnuson-Stevens Act) by developing gear that may reduce bycatch.

ADDRESSES: Copies of the EFP application and the environmental assessment (EA) are available by writing to Sue Salveson, Assistant Regional Administrator for Sustainable Fisheries, Alaska Region, NMFS, P. O. Box 21668, Juneau, AK 99802, Attn: Ellen Walsh. The application and EA are also available from the Alaska Region, NMFS website at http://www.fakr.noaa.gov.

FOR FURTHER INFORMATION CONTACT: Jason Gasper, 907-586-7228 or jason.gasper@noaa.gov.

SUPPLEMENTARY INFORMATION: The National Marine Fisheries Service (NMFS) manages the domestic groundfish fisheries in the GOA under the FMP. The North Pacific Fishery Management Council (Council) prepared the FMP under the Magnuson-Stevens Act. Regulations governing the groundfish fisheries of the GOA appear at 50 CFR parts 600 and 679. The FMP and the implementing regulations at §§ 679.6 and 600.745(b) authorize issuance of EFPs to allow fishing that would be otherwise prohibited. Procedures for issuing EFPs are contained in the implementing regulations.

NMFS received an EFP application from Alaska Marine Conservation Alliance Foundation in April 2006. The proposed EFP would allow for the testing of a modification to trawl gear commonly used in the Central GOA that may reduce Pacific halibut bycatch rates in the Central GOA trawl fishery. GOA trawl fishery Pacific halibut bycatch is controlled by a prohibited species catch (PSC) limit. Once reached, a PSC limit closes a fishery regardless of the available target species quota. These closures impose a cost on the industry in the form of unharvested groundfish quota. Therefore, a reduction in PSC bycatch rates may allow the industry to harvest a greater proportion of the total allowable catch (TAC) of groundfish.

The proposed EFP's primary objective is to reduce Pacific halibut bycatch rates without substantially reducing the target species catch (Pacific cod). The Alaska Marine Conservation Alliance developed the EFP in cooperation with NMFS scientists at the Alaska Fisheries Science Center (AFSC). The project has the following three performance goals: (1) To reduce current Pacific halibut bycatch rates by 40 percent; (2) to not reduce the target species catch by more than 10 percent; and (3) to be functional for a typical GOA trawl vessel which has limited deck space and may have only aft reels. The degree to which the excluder meets these performance goals will be evaluated by the applicant and the AFSC.

The project will take two weeks to conduct between August 1, 2006, and August 30, 2006. The project may be extended by the Regional Administrator to occur during a two week period between August 1, 2007 and August 30, 2007. Continuation of the experiment in 2007 would allow refinement of the trawl gear modification and time to address statistical issues discovered during the 2006 experiment. August was chosen by the applicant because trawl vessels are not fishing for Pacific cod and are thus available to fish the EFP permit. Fishing would occur in the Central GOA, primarily in the Portlock Bank and Albatross Bank areas near Kodiak Island, Alaska. Fishing would be conducted by six trawl vessels each equipped with ordinary trawl gear. Participating vessels would be vessels that operate in the Central GOA Pacific cod trawl fishery.

The proposed EFP exempts the applicant from fishery closures and prohibited species catch (PSC) limits. These exemptions are necessary to allow the permit holder to efficiently conduct the project and minimize Central GOA trawl fishery impacts. The EFP would exempt the applicant from Central GOA directed fishing closures implemented under §§ 679.20, 679.21, 679.23 or 679.25. Retained amounts of groundfish other than Pacific cod would be limited to the relevant maximum retainable amount specified in Table 10 of 50 CFR part 679, using Pacific cod as the basis species from which maximum retainable amounts would be calculated. The proposed EFP would also exempt the applicant from observer requirements at §§ 679.50, 679.7(a)(3), and 679.7(g).

The total allowable groundfish harvest for the proposed EFP is 1,300 metric tons (mt), of which 950 mt is expected to be Pacific cod and 350 mt is expected to be other groundfish species. Sufficient TAC amounts for several groundfish species likely to be taken during the project may be fully utilized by the groundfish fishery. Therefore, groundfish harvested under the EFP would not be deducted from the TAC amounts specified in the annual harvest specifications (71 FR 10870, March 3, 2006).

The PSC limit for Pacific halibut may be reached during the project, requiring the closure of the Central GOA trawl fisheries in accordance with 50 CFR 600.745(b) and 50 CFR 679.25. Halibut PSC limits closed the Central GOA trawl fishery for flatfish before the TAC was taken in 2003, 2004, and 2005. Therefore, to limit the impact on other Central GOA groundfish fisheries, halibut mortality from the project is limited to a maximum of 90 mt and would not be counted against the annual PSC limit. The proposed EFP would exempt a vessel from halibut PSC limits at 50 CFR 679.21(d)(3) and permit up to 90 mt of halibut mortality as determined through consultation with the International Pacific Halibut Commission (IPHC) and the AFSC.

In accordance with 50 CFR 600.745(b) and 50 CFR 679.6, NMFS has determined that the proposal warrants further consideration and has initiated consultation with the Council by forwarding the application to the Council. The Council will consider the EFP application during its June 5-13, 2006 meeting in Kodiak, Alaska. The applicant has been invited to appear in support of the application. Interested persons may comment on the application at the Council meeting during public testimony. Information regarding the June 2006 Council meeting is available at the Council's website at http://www.fakr.noaa.gov/npfmc/council.htm.

Copies of the application and EA are available for review from NMFS (see ADDRESSES).

Authority: 16 U.S.C. 1801 et seq.

Dated: May 24, 2006.
James P. Burgess,
Acting Director, Office of Sustainable Fisheries, National Marine Fisheries Service.

[FR Doc. E6-8264 Filed 5-26-06; 8:45 am]

BILLING CODE 3510-22-S